DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending June 30, 2021. For purposes of this listing, long-term residents, as defined in section 877(e)(2), are treated as if they were citizens of the United States who lost citizenship.

Last name | First name | Middle name/initials
ALTANIAN | KEVORK. |
ABEND | GABRIEL. |
ABERA | NESTOR | AARON
ABERNETHY | COLIN | J
AKIYAMA | YUSUKE | KEVIN
AL HARBI | ALAA | N.
AL-BARGAN | MOAIYED | SALEH
ALBERS | SASCHA. |
ALBREKSTEN | KAREN | ELIZABETH
ALDINGER | BENJAMIN | L.
ALEMANI | MICOL. |
AL-FUTAISI | TAQWA | AHMED
ALPERSTEIN | MELISSA | E.B.
ALTIERI | LAURA | F.
AN | XIUJUAN. |
ANCHEIM | ELLEE | MARCUS
ANDERSEN | LINDA | SUSAN
ANDERSON | LEAH | ANNA MARIE
ANTUNOVIC | ROBERT. |
APPLEBAUM | TAMAR | L.
ARFSTEN-ROMBERG | URSULA. |
Armour | Kellen | B.
ASPINALL | JILLIAN | M.
ATWA | TAMER | MOHAMED
Awford | Nicola | L.
BAKER-UNDERHILL | KALIA | TE KURA MEI OTE
BALL | WAYNE | NICHOLAS
BALLANTYNE-DREWE | CHRISTINE | MICHELLE
BANK-DE ZEEUW | DINA. |
BARCLAY | JOHN | D.
BARLOW | TONI | ANN
BAROUK-HASLER | NANCY | R.
BARTLETT | DEBORAH | D.
BASIC-BEGAGIC | EMINA. |
BAUER | BORIS. |
BAUMANN | ERICH | S.
BAUMANN STETTLER | STEFANIE. |
BAUR | JEANETTE. |
BECK | MARIAH | MANSVELT
BECKER | MARY | ELAINE MARIX
BECKERLE | GERALD | PAUL
BEEKMAN | WILLEM | J.
BEGAGIC | JASMIN. |
BEHNKE | PAULINE. |
BEHNKE | ROBERTO | H.
BELBIN | JAIEUR. |
BERARD | GABRIELLE | CLAIRE LORRAINE
BERARD | ROBERT | NICHOLAS
BERTRAM | BEATRICE | URSULA
BESELIN | ANNE | MARGARETA
BESKAU | GAIL | DARLYNE
BESMEHN | BRIGITTE. |
BHARTIA | AMIT | R.
BILLYARD | CYNTHIA | LOUISE
BIRCH | ANDREW | J.
BIRCH | LUCINDA | J.
BLACK | ELEANOR | JANE GORTHEY
BLASS | THOMAS. |
BLITZER | DAVID. |
BOGUTH | SHARON | N.
BOUMA | JETSKE | A.
BOUWKNECHT | LISA | KAREN
BOWERS | HARRIET | L.
BOWERS | SAMUEL | F.
BOYLAN | ALEXEY | A.
BRADFORD | SOFIA. |
BRANCH | BARBARA. |
BRANDT | WILLEM | R.
BREINGAN | LUCIENNE | E.
BRETTSCHNEIDER | JANE. |
BROECKER | CHRISTOPH | ALEXANDER
BROWN | PETER | DOUGLAS
BRUGGER | ROBIN | LUKAS
BRYDON | EDWARD | W.
BRYMER | CHRIS. |
BURFORD | SUSAN | L.
BURGIN | KARL | E.
BUTCHER | RAYMOND. |
Cacchione | Christine | F.
CAINES | DOUGLAS | R.
CAMP | DAVID | K.
CARD | DANIEL | JOHN
CARNRITE | TED | S.
CARPENTER | THEODORE | P.
Carter | Keith | W.
CARTWRIGHT | CHERYL | JEANNE
CARTWRIGHT | NATHAN | RYAN
CASTAGNA | FAUVE. |
CERAOLO | GIUSEPPE | EMANUELE
CESCATI | VIVIANA | SOPHIE ANGELINA
Chagnon | Sabrina. |
CHAMPION | WANDA | ANN
Chang | Conrad | T.
CHANG | DOROTHEA | JUN YEE
CHANG | YUKO. |
CHARBON | LAUREN | KAYLEEN
CHAVALITTUMRONG | TRIN. |
CHEN | ANGELINA. |
CHEN | CHIN | HSIN
CHEN | CHRISTINA | YI
Chen | Chun-Ren. |
CHEN | CLEMENT | CHENG WEN
CHEN | YING-CHEN. |
CHERRY | ROBERT | J.
CHIANG | MELODY. |
CHIKAMATSU | MIYUKI. |
CHOW | MONICA | LEE
CHOW | RONALD | RONG
CHUANG | JERRY | SI-YIN
CHUASON III | SAMUEL | SHAUN TIMOTHY LIM
CHUN | DAVID | JU YOUNG
Chung | Bonnie | W.
CHUNG WU | JOY | HUI
CICHAN | ANTHONY | M.
CICHAN | MARY | A.
CIPES | EZRA | DANIEL
CLARK | ELIZABETH. |
CLARK | MARGARET. |
CLARK | ROBERT. |
CLASSEN | CORNELIA | U.
CLEMENT | CHRISTINE | G.
CLEMENT | TIMOTHY | P.
Cloes | Francois | D.
Collins | Janell | M.
COLON NEGRON | LYDIA. |
COMEAU | MELANIE. |
CONARD | SABRINA | ST. JOHN
CONVERY | KAREN. |
COOK | BARRY | JAMES
COOK | TIMOTHY. |
COOPER | CECILIA | ANN CRONDAHL
CORKUM | KELLY | L.
CORR | DERMOTT | F.
CORRIGAN | NANCY | ELLEN
COSTE | JEAN-PHILIPPE. |
COTGROVE | CHRISTIE. |
COTZIAS | CONSTANTIN | M.
Cruz | Rui & Barbara | F.
CUI | CHENGDE. |
Currie | David | L.
DAMAPONG | KHEMWIKA. |
DAN | TOMILO. |
DANIELS | CHERYL. |
DANIELS | JOSHUA | ARTHUR
DANZE CERAULO | ROSA | MARIA
DARLING | HARRISON | T.
DAVAS | ANDERS. |
Davies | Christine. |
Davies | Timothy | C.
DAWSON | CELIA | PENELOPE
DE MAIO | SEAN | N.
DE MENEGHI | VICKI | LYNN
DEGEL | FLORENTINA | e.
DELAHAYE | OLIVIER. |
DELAPERCHE-WALKER | HELENE. |
Delaporte | Thierry | D.
DENHOED | JEREMIAH | JACOB
DESBAILLETS | SABINA | KATHARINA
DEVENISH-MEARES | SUSAN | E.
DeWITT | CHRISTOPHER | ROBERT JAMES
DIBBEN | CHRISTOPHER | D.
DIJK | HENDRIK | J.
DITTRICH | MARCO. |
DODD | ROSE | ELIZABETH
DOEPKE | NATALIE | ANN
DOHM | FAITH | A.
DRILLING | JANE | MARIE
DULAC | MARIO. |
DULAC | RENE. |
DUNN | PATRICIA | A.
EAGLE | ROBERT | SAMUEL
EBERLE | FRANK | D.
EDWARDS | MAIR. |
EL WANNI | SHARRIFF | I.
ELLERMANN | ANDREE | WILHELM AUGUST
ELLIOTT | MARTIN | J.
ELLIS | JANE | A.
ELRAWAS | KARIM | MOHAMED SAYED
ENSSLIN | SIMONE. |
EVANS | CHRISTINA | JOANNE
FAKLA | PETER. |
FALLENTIN | MAGNUS | GLEERUP
FALLENTIN | MIA | GLEERUP
FALLENTIN | NILS. |
FATIMA | TASHBIH. |
FAYMAN | JOEL. |
FAYMAN | PAUL | IGNACY
FELHABER | TARYL | A.
FERDOWS | DENIS | R.
FERDOWS | DESIREE | M.
FERMI | OLIVIA | ALICE WEINER CATON
FERNANDEZ | VIRGINIA. |
FERNANDEZ TORRES | ELIA. |
FERSZT | DOMINIC | K.
FESTA | MARIA | CAROLINA
FIELD | DAVID | ASHWORTH
FIRKINS | JENNIFER | L.
Fisher | Isabelle | A.
FISHER | PATRICIA. |
FISHER | SHERI | A.
FOLAWIYO | ABDULLATEEF | OLUWAFEYISAYO
FOLINO | CRISTIAN. |
FRANCE | SEBASTIAN | HAN
FRANKS | TANYA | C.
FRASA-ODOK | SELMA. |
FRAUKE | LIEROP. |
FROEHLICH | GESA | CORINNA
FULLER | MIMI | G.
FURUYA | NANASE. |
FURUYA | YUKI. |
GABALA | DESIRE. |
Gaehwiler | Nigel | M.
GAGE | SHELLY | R.
GAILLE | SARAH | LYSE
GARLAND | ALLAN | BRUCE
GARLINGE | KATHERINE | PERRY
GASTON-THIERY | PAIGE | SALYER
GEKOSKI | RICHARD | A.
GEMMEL | ROGER | DIRK
GERICK | BEVERLY | J.
GERNAND | MICHELLE. |
GERTSCH | RUBY | CHRLOTTA
GILBERT | KRISTIN | LEE
GILGEN | THOMAS | M.
Glaeseman | Robert | A.
GLECKMAN | BRIAN | KEITH
GLOOR | JANINE | M.
GOLAZ | RAPHAELLE | LUCE
GOLD | DIANE. |
GOLDMAN | MA'AYAN. |
GONZALEZ | JUAN | A.
GONZALEZ GARCIA | MARIA | TERESA
GOODALL | KATIE | E.
GOOSSEN | PAMELA. |
GORCZYNSKI | KRZYSZTOF | JERZY
Gore | Dhananjay | A.
GOTO | CHIYOMI. |
Gottlieb | Lindsey. |
GRAHAM | DAVID | HAROLD
GRANHEIM | SARA | M.
GREBELDINGER | BRUCE. |
GREEN | JOYCE | N.
GREEN | LESLIE | JOHN EDWARD
GREENE | ROBERTO | LEON
Greve | Todd.. |
GREVSKOTT | SVERRE. |
GROSS | ALEXANDRA. |
GROSS | DANIEL | PIERRE
GUEHR | MARKUS. |
GULKA | KATHLEEN | E.
GULKA | OREST | N.
GUNADI | ERIKA. |
GUPTA | ANSHU | M.
GUPTA | RAJAT. |
GUT | ROBERT | DVID
HAAC | VICTORIA | S.
Haensel | Georg G | J.
HAGEN DEGONDA | LYNN | KATHERINE
HAGERMAN | CYNTHIA | E.
HAHN | DEBORAH | JOSEPHINE
HAILPERIN | VEIT | NIKOLAUS
HALL | BROCK. |
HAMILTON | EVA | M.
HANG | LINGBING. |
HANO | CAMILLE | D.
HARDIN | CHRISTIAN | A.
HARRIS | SIMON. |
HASEGAWA | KIMIKO. |
HASSAM | OMAR. |
HASSIBI | BEHZAD. |
HE | HOUSHENG. |
HEESE | MARLON | F.
HEFFERNAN | JOHN | FRANCIS
HEIN | MARY | C.
HEIN | JULIA | W.
HEIN | ROBERT | SCOT
Hellstrom | Lars | O.
Hellstrom | Susanne | H.
HERITIER | THOMAS | ETIENNE
HEROLD | JOHN | MICHAEL
HESOVA | ZUZANA. |
Heusser | Andrea | C.
HEZKY | ZDENEK. |
HILL | ROBERT | J.
HO | TECH-HUA. |
HOLLOWAY | JULIAN. |
HOMAN | NANCY | L.
HOOPER | RICHARD | MARK
HOYNE | PAUL | R.
HSIEH | KEVIN | KWAN-TAI
HUANG | ELLEN | YIHJING
HUFFMAN | EWEN | M.
HUGHES | ANNABEL. |
HUITEMA | HELENA | T.
HUTCHENS | GORDON | BRUCE
HUTNIK | KENNETH. |
HWANG | TINA. |
IKEDA | KAYOKO. |
ILIEV | COLLEEN | HEDI
ILIFF | JOHN | C.
ILLMAN | INGE | MARIE
ILYN | DAVID | A.
IMBACH | FRANCESCA | N.
IMGRUND | CLAUDETTE | ANNE
Ishida | Akira. |
ITAKURA | DAISUKE. |
ITAKURA | TAKAKO. |
ITO | MAYUMI. |
IWEMA | PIETER. |
JANG | EUN | KYUNG
JEFFERSON | GILLIAN. |
Jensen | Anne. |
JOHNSTON | SUSAN | L.
JOSEPH | NICHOLAS | ALEXANDER
JUNGLING | THOMAS. |
KANATA | TAMIE. |
KANG | YONG. |
KARATO | YUKAKO. |
KASTING | NORMAN | WILLIAM
KAUS | MICHAEL | R.
KAUS | ORTRUN | L.
KEES | MICHAEL | N.
KEISER | MARC. |
KESSLER | BARBARA | J.
KIM | JOHN | TAEHUN
KIM | SUNG UP. |
KISH | JENNIFER | L.
KISH | JULIA. |
KISH | STEPHEN. |
KLASSEN | JOSIAH | STEPHEN CF
KLESNER | MARGARET | ANN
KLUCKER | NORMA | JEAN
KOCH | DORIS | BARBARA
KOCHENDOERFER | ANDREA | S.
KOENING | IRENE | URSULA
KOLMAN | LOUIS. |
KONCHAK | LORELEI | JUNE
KOU | HENRY | JAU-JUNG
KOU | WILLIAM | JAU-HAO
KOZUMA | HIROYUKI. |
KOZUMA | NAOKO. |
KOZUMA | TSUGMI. |
KRAPIVIN | YURY. |
KRAUTER | HOLLY | E.
KRAYENHOFF VAN DE LEUR | REBECCA | LEE
KUEHNE | BIANCA | SHARON
KWOK | SHARMAINE. |
KWOK | SHIRLENE. |
KYLE | DAVID | STUART
LAEMMLI | CAROLINE | M
LAM | NICHOLAS | CHUEK FOONG
LAMBETH | DEAN | A.
LANDERS | MORAG | H.
LANDERS | PETER | C.
LANDRY | KATHERINE | M.
LANGLEY | BRIAN. |
LANGLEY | MELANIE | N.
LASKIN | MATTHEW | DAVID
LAWSON | BELINDA. |
LEA | MARGARET | LYNN
Lea | Rachel. |
LEACOCK | BIANCA | MARIE
LEBORGNE | CHARLES. |
LECOMPTE | ALAIN. |
LEE | DAVID | JONATHAN
LEE | ERIC. |
LEE | FIONA. |
LEE | MING-SHIH. |
LEE | SOYOUNG. |
LEE | YA-TING. |
LEGER | MELANIE | J.
LEI | DAVID. |
LEVINE | MAX | ALEXANDER
LEWIS | MARY JANE | J.
LI | XUE | NING
LIANG | JIANGANG. |
LIM-KONG | CLAIRE | K.
LIM-KONG | GERARD | S.
LIN | FANG | L.
LIN | JERRY. |
LIN | JIUN-YIH. |
LIPP | ANNA | M.
LIU | MICHAEL. |
LLOYD | CHRISTINE | ROSE
LOKE | WENG | KHEONG
LOW | ZHIWEN. |
LOWRY | CHRISTINA | D.
Lu | Po-Yen. |
LUCAS | ASJES. |
MACALALAD | VANESSA | K.
MacDONALD | TONI | RAE
MACFABE | SCOTT | A.
MACINTOSH | CATHERINE | E.
MACINTOSH | RODERICK | W.
MACKAY | ALLISON | E.
MACKEY | CONNOR | TEMPLETON
MAEMORI | KENICHIRO. |
MAHEUX | ANNE | F.
MAIER | STEFAN | M.
MAJIC | XAVIER | GEORGE
MALKI | FAWAZ. |
MAMMEM | GEORGE | J.
MAPSON | GEORGE | K.
Marcuson | T Alexander | G.
MARLOW | CATHLEEN. |
MARTIN | DINO | E.
MARTIN | EDWARD | C.
MATTHEWS | ROGER | D.
MAUNDER | JOANNA | L.
MCCLEMENT | JAY. |
McCORMICK | MARTHA | KELLY
McEWEN | CHELSEY | DEE ANN
MCKAY | ALISON | B.
MCKAY | CAMERON. |
MCKAY | SCOTT | A.
MCLAREN | HEATHER. |
MCMORLAND | IRENE. |
McQUILLAN | CHRISTOPHER | THOMAS
MECKEL | ASTRID | VIKTORIA
MEDEIROS | STEVEN | JOSEPH
MEDRI | DANTE. |
MEID | MICHAEL | C.
Meier | Renate | E.
MELTON | STEVEN | C.
MENGES | JUDITH | A.
MEURRENS | CELESTE. |
MEURRENS | FABIENNE. |
MEURRENS | FLEUR. |
MIDWINTER | ANNE | CAMILLA
MILNE | EDWARD | L.
MINTO | RACHAEL | M.
MITCHELL | TYSON | JAMES
MIURA | RYOUAUKE | LeROY
MIZUNO | MAYUMI. |
MOATE | PETER | J.
MOHAMMED | JAWAR | SIRAJI
MOLINA | ANTONIO | PASCUA
MOLTZ | KAREN. |
MONARDO FULLER | SHERYL | DIANNE
MONEY | JOHN | STEPHEN
MONGEON BUDHRAM | DIANNE. |
MONK | CHRISTOPHER | BRAIN
MONSON | ALEXANDER | Y.
MONTGOMERY | IAN | MACKAY
MOORE | CHARLOTTE. |
MORAN | STEVEN | C.
MORETTI STOLFI | MARIA | ANGELA
MORIN | JEAN. |
MOSELEY | ANDREW. |
MOSELEY | CHERYL | J.
MUCCIOLI | IVANA | TONINA
MUCCIOLI | MARIA | LYDIA
MULLER | DORIS | INGEBORG
MULLER | JULIA | KATINA
MUMA | KATHERINE | E
MUNOZ | DAVID. |
MURAI | KIYOKO. |
MURAI | TOSHIAKI. |
MURDOCK | JOHN | THOMAS
MURDOCK | JOHN | T.
MURPHY | ERIN. |
MUTCH | KEVIN | F.
Nabeshima | Hiroko. |
NAGAMINE | YOSHITAKE. |
NASH | JANINE | DEPPER
NEAVE | EDWIN | H.
NESS | SARA | ALICIA
NEUMAYR | EMILY | J.
Newbatt | Victoria | M.
NEWSOME | CATHERINE | H.
NEZU | NOBIYUKI. |
NG | HOCK | WEE JEREMY
NG | VIVIAN | TIN-YEE
NICHOLAS | JOHNSTON | J.
NICHOLS | VALERIE | JOY
Nishigahara | Makoto. |
NITSCHE | FELICIA | EMILY
NOBLE | MARY. |
NYSEN | MARK | PAUL
O'Brien | Lois | A.
O'CONNOR | SIMON | P.
OLDALE | BARBARA | ALLISON
ONO WIER | KATSUYO. |
ORENT | PETRA. |
OSTVIK | MARGARET | CHRISTINE
OUDMAN | ROBERT | S.
OZSAHIN | ESAT | M.
PALANI | JAYABARATHY. |
PALUMBO | CRISTIANA. |
PANGBORN | LAUREN | MICHELLE
PARK | JISUN. |
PARK | JONG | HWA
PARRA DAVILA | DENYS | C.
PATEL | TARA. |
PATERAS | SUSAN | NAOMI
PATTERSON | KIRK | R.
PATY | BEVERLY | BEHENNA
PEARSON | BRIAN | J.
PEDLER | NICOLE | DAWN
PEGLER | BENJAMIN | JOS
PENAS | MARTA | FREIRE
Pennell | Corlienne | A.
PETER | DEANNE | RUTH
PETROFF | BRYAN | JAMES
PHILLIPS | IAN | D.
PIERA | LEWIS | B.
PIKE | ROBERT. |
POIESZ | LEONARDUS | A.
POLLOCK | MARA. |
PRAVITRA | KALAYANARAK. |
PRECHT | ELISABETH. |
PRECHT | MAGNUS. |
PRICE | CARLA | J.
Primmer | David | E.
QUADROS | GARY | WESLEY
QUINIAN | MATTHEW. |
RABY | JULIAN | A.
Raine-Eliades | Sarah | L.
RAMPA | TAMARA | D.
RANDO | BRIAN | PHILIP
RANNEY | LOUANNE | KAY
RAPAPORT | JARED | DANIEL
RAUTERT | THOMAS. |
REGAN | THOMAS | D.
RENNICKS | JOHN | MALCOLM
RENZI | RENALDO | CIRO
RENZI | ROBERTO | SERAFINO
RHODES | JULIAN | D.
RIBARSCH | THOMAS. |
RICHES | ROMANITA. |
RIEDL | LINDA | MARIE
ROBINSON | LISA | J.
ROBINSON | NANCY | J.
ROCHET | OLIVER | LUC
ROSENBERG | HEIDI. |
ROSS | GREGORY | E.
ROTTE | THORSTEN. |
RUDHART | ALEXANDRA. |
RUNNELLS | JOANNA | LEE
RUTGERS | AMANDA. |
RUTGERS | TANNER. |
RYAN | GAIL | I.
RYAN | PHOEBE | H.
SABEAN | SHELLY | R.
SAKOWSKI | ROLAND | ARTHUR FRANKLIN
SANDERSON | BARBARA. |
SARTORI | CRISTINA. |
SAUTHIER | MARC | L.
SBROCCHI | STEPHANIE. |
SCHACHTE | KIM | ALISON
SCHILLER-BIRCH | JULIE | GAYE
SCHMID | EDITH | M.
SCHMITT | TERRY | G.
SCHNURR | ANNALEE. |
SCHOCH | PETER. |
SCHOUMAKERS | FRANK | J.
SCHREIER | FLORIAN | S.
Schroeder | Sam. |
SCHROETER | CODY | HANS-WILLIAM
SCHUDEL | EMILY | JANE
SCIOSCIA | LINDA. |
SCOTT | DEBORAH | SUSAN
SCRATCH | KIMBERLY | ALISON
SEGERBERG | ANITA. |
SEGGERMAN | ALEXANDER | FREDERICK ELLSWORTH
SEGGERMAN | NATALIA | CARRIE ATHA
SEHGAL | SARITA | DANUTE
SEO | JUN | YOUNG
SEO | MINJAE. |
SERWA | THERESA | MARIE
SEVENSTER | MERLIJN. |
SEVENSTER MEIJER | MARTINE | J.
SHAMBAYATI | SHABNAM. |
SHANDRO | SUSAN | CATHERINE
SHAPIRO | DAVID. |
SHAW | CHRIS | J.
SHAW | DESMOND | J.
SHEEHAN | DAVID | AUGUSTINE JOSEPH
SHERRINGTON | GILLIAN. |
SHERRINGTON | SIMON | R.
SHIGENO | DYANNE | K.
SHILONI | ASSAF. |
SHIUE | JOHNSON | H.
SHORTER | MATTHEW | BARRALET
SHU | ANDREW. |
SIGNORINI | GIOVANNI | FRANCESCO
Silver | Susan | C.
SIROTNIK | GARETH | S.
Sissons | Jennifer | Ann
SKEATE | ROBERT | C.
SMALL | PATRICIA | HAZEL
Smith | Bruce | P.
SMITH | Christine | P.
SMITH | CHRISTOPHER. |
SMITH | KELLY | R.
SMITH | LAUREN | D.
SMITH | MALCOLM. |
SMRSTIK GENTNER | CAROLINE | ELIZABETH
SNARY | KEYTH | ALEXANDER
SOLMSSEN | HANS | DAVID
SOMERFILED | ELAINE | MARY
SPALINGER | GRETCHEN | ALTMAN LUTZ
SPANIER | FREDERIC | A.
SPEAL | EDWARD. |
SPILLMANN | REBECCA | JULIA
SPRINGATE | JILL. |
STANKOWSKI | AGNIESZKA. |
STELLA | FRANK. |
STELLA | WENDY | A.
STENNES | CAROL | L.
STORK | FRANCOIS | G.
Strand | Marika. |
STRANGIS | JEAN-LOUIS. |
STRUB | JOSHUA | SAMUEL
STRUTHERS | LISE | JOANNE OWENS
STRUTHERS | LISE. |
Stueckelberger | Anna | L.
SU | KOUNG-MING. |
SUN | EDWARD. |
SVENDSEN | KATHLEEN | JUNE
SWANSON | DENISE | CLAIRE
SWIBOLD | DAWN | MARIE
TACHIBANA | KAYOKO. |
TACHIBANA | AKIHIRO. |
TAKASHIMA | HIDETOSHI. |
TAKASHIMA | KAZUMI. |
TAKASHIMA | KOICHIRO. |
TAMAYOSHE | AKIKO. |
TAN | LING | HUI
TANORI | MARGARITA | MEDRANO
TANSLEY | ROBERT | H.
TEATHER | DAVID. |
TELLER | MARCUS | W.
TEMPLE | LAURICE | E.
TENENBAUM | TODY | MARCIA
TESSIER | ALEXANDRE | JOSEPH
TESTORI | MICHAEL | LODOVICO
THEODOR | FRANCES | BARBARA
THIOLLIER | ALEXANDRE. |
THOMPSON | I. | WAYAN BIMA
Thomson | Barbara | Joan
THORNE | GLEN | RICHARD
TISSOT | ALEXANDER | G.
TOMLINSON | TOBIAS | JOHN ALAN
TRACY JR | GALEN | L.
TREMBLAY | NICOLE | MARIE
TREPANIER | RACHEL. |
TSCHANZ-RYAN | ELIZABETH | DESFOSSE
TUNHEIM | ALLEN. |
TUNINGA | LUCA. |
TURNBULL | DAVID | F.
TUTUIAN | ALEXANDRA | CHRISTINE
UCHIYAMA | KANJI. |
UPCHURCH III | CHARLES | W.
VALCKE | PATRICIA | ANNE
VALEZ | MICHEAL | S.
VAN DER GEER | ROGIER. |
VAN DOMSELAAR | BASTIAAN | M.
VAN MIDDLESWORTH | RICHARD | WILSON
VANDER KOOI | WILLIAM | KENNETH
VARON | JEAN | PIERRE LOUIS
Verver | Ida | Elisabeth
VICKERS | BARRON. |
VICKERS | REBECCA | J.
VILLALOBOS-BLASER | KARIN. |
VLIEG | HEDWICH | C.
VOLLMER | JULIANE. |
VOLOSIN | CLAIRE | H.
VRUZEKOVA-FALKA | JANA. |
WAGNER | KELLY | A.
WALKER | JANET. |
WALKER | VANESSA | EILEEN
WALTHAM | JOHN | ROBERT
WANG | JEFFREY. |
WANG | JEFFREY. |
WANG | SHAINN-WEI. |
WANG | WEN | YIN
WANG | YING. |
WARD | MARY | JANE
WARDEN | WILLIAM | THOMAS
Warnsby | Stephen | P.
WASSMER | MARTINA | L.
WATLER | WALT | STEVEN
WEAVER | WILLIAM | ALLEN
WEIBEL | ADAM | R. F.
WEIBEL | ANNELIESE. |
WEINKAM | JAMES | LAWRENCE
WEIR | DULCE | C.
Wells | Kristen | K.
WENGER | RUTH. |
WESTBERG NEHM | KARIN | C.
WESTMAN | MEGAN | EMILY
Wheatley | Anthony | P.
WHITE | DUSTIN | MICHAEL
WIERKS | TAMARA | G.
WILD | ANDREW. |
WILD | BARBARA. |
WILLARD | GILLIAN | MARY
WILLERT | RALPH | M.
WILMOT | E GAYLE. |
WILSON | GAIL | OLIVIA
WILSON | HJELEN. |
WINCKLER | MICHELE. |
WINN | SHARON | ANN
WINTON | NICOLE | JENNIFER
WIRTZ | KATHRYN. |
WITT | CHRISTIANE | M.
WOERNER | DAVID | MICHAEL
WONG | BRANDON | WEI LUN
WOODSWORTH | ANNE. |
WOOLGAR | GARY | JOHN
Wright | John | M.
WU | E | TSAI
WU | JOY | HUI CHUNG
Wu | Wenxiang. |
YAMADA | NOBUHIKO. |
YEANDLE | MICHAEL | JAMES
YELLEN | PENNY. |
YERMOLITSKAYA | YEKATERINA. |
YICHUN LIN | SAMANTHA. |
YING | DA. |
YOKOMORI | MAMORU. |
YOKOMORI | MICHIE. |
YOU | HIS | YEUAN ERIC
YOULE | JILLIAN. |
YOULE | ROBERT | J.
YOUNG | ANN | M.
YOW | VIVIAN | MAY WING
ZHOU | JEFFREY | YOU
ZHOU | REN | QIU
ZUBER | JENNIFER | A.
ZWEIFEL | PAUL | H.
ZWICKEL | JONATHAN | PAUL

Dated: July 26, 2021.
Godofredo Burgos-Rodriguez,
Manager Classification Team 82413, Examinations Operations—Philadelphia Compliance Services.

[FR Doc. 2021-16201 Filed 7-28-21; 8:45 am]

BILLING CODE 4830-01-P